NUCLEAR REGULATORY COMMISSION

[NRC-2009-00]

Office of Federal and State Materials and Environmental Management Programs, Annual Decommissioning Report; Notice of Availability

AGENCY: Nuclear Regulatory Commission.

ACTION: Notice of availability.

SUMMARY: The Nuclear Regulatory Commission's (NRC's) Office of Federal and State Materials and Environmental Management Programs (FSME) is announcing the availability of NUREG-1814, Revision 2, “Status of Decommissioning Program—2008 Annual Report.” This NUREG provides a comprehensive overview of the NRC's decommissioning program. Its purpose is to provide a stand-alone reference document, which describes the decommissioning process and summarizes the current status of all decommissioning activities including the decommissioning of complex decommissioning sites, commercial reactors, research and test reactors, uranium mill tailings facilities, and fuel cycle facilities. In addition, this report discusses accomplishments in the decommissioning program since publication of the 2007 Annual Report (SECY-07-0209); identifies the key decommissioning program issues, which the staff will address in fiscal year 2009; and provides information Agreement States have supplied on decommissioning in their States.

ADDRESSES: NUREG-1814, Revision 2, is available for inspection and copying for a fee at the Commission's Public Document Room, U.S. NRC's Headquarters Building, 11555 Rockville Pike (First Floor), Rockville, Maryland. The Public Document Room is open from 7:45 a.m. to 4:15 p.m., Monday through Friday, except on Federal holidays. NUREG-1814, Revision 2, also is available electronically from the ADAMS Electronic Reading Room on the NRC Web site at: http://www.nrc.gov/reading-rm/adams.html, and on the NRC Web site at: http://www.nrc.gov/reading-rm/doc-collection.

Copies of NUREG-1814, Revision 2, also may be purchased from one of these two sources: (1) The Superintendent of Documents, U.S. Government Printing Office, Mail Stop: SSOP, Washington, DC 20402-0001; Internet: http://bookstore.gpo.gov/; telephone: 202-512-1800; fax: 202-512-2250; or (2) The National Technical Information Service, Springfield, VA 22161-0002, Internet: http://www.ntis.gov; telephone 1-800-553-6847 or, locally, 703-605-6000.

FOR FURTHER INFORMATION, CONTACT: Mr. Richard Chang, Mail Stop: T-8F5, U.S. Nuclear Regulatory Commission, Washington, DC 20555-0001. Telephone: (301) 415-7188; Internet: richard.chang@nrc.gov.

Small Business Regulatory Enforcement Fairness Act

In accordance with the Small Business Regulatory Enforcement Fairness Act of 1996, the NRC has determined that this action is not a rule and has verified this determination with the NRC's Office of the General Counsel.

Dated at Rockville, MD, this 23 day of February, 2009.
For the Nuclear Regulatory Commission.
Keith I. McConnell,
Deputy Director, Decommissioning and Uranium Recovery Licensing Directorate, Division of Waste Management and Environmental Protection, Office of Federal and State Materials and Environmental Management Programs.

[FR Doc. E9-4331 Filed 2-27-09; 8:45 am]

BILLING CODE 7590-01-P